NATIONAL SCIENCE FOUNDATION

Advisory Committee for Mathematical and Physical Sciences; Notice of Meeting

In accordance with the Federal Advisory Committee Act (Pub. L. 92-463, as amended), the National Science Foundation announces the following meeting:

Name: Advisory Committee for Mathematical and Physical Sciences (66).

Date and Time: February 12, 2001, 8:30 a.m.-5 p.m. (Closed); February 13, 2001, 8:30 a.m.-6 p.m. (Closed); February 14, 2001, 8 a.m.-11 a.m. (Closed); February 14, 2001, 11 a.m.-2 p.m. (Open).

Place: National Science Foundation, 4201 Wilson Boulevard, Room 375, Arlington, VA 22230.

Type of Meeting: Part-Open.

Contact Person: Dr. Donald Burland, Acting Director, Division of Chemistry, Room 1055, National Science Foundation, 4201 Wilson Boulevard, Arlington, VA 22230. Telephone: (703) 292-8840.

Purpose of Meeting: To provide advice and recommendations concerning proposals submitted to NSF for financial support. Discussions on the impact of projects funded and an evaluation of the programs.

Agenda

February 12, 2001: First Round In-depth Program Review

February 13, 2001: Preparation of First Round Report; Second Round Review and Preparation of Second Round Report

February 14, 2001: Merge of 1st and 2nd Round Reports, and Open Discussion of Divisional Issues and Briefing by COV

Reason for Closing: The proposals being reviewed include information of a proprietary or confidential nature, including technical information; financial data, such as salaries; and personal information concerning individuals associated with the proposals. These matters are within exemptions 5 U.S.C. 552b(c), (4) and (6) of the Government in the Sunshine Act.

Dated: January 25, 2001.
Karen J. York,
Committee Management Officer.

[FR Doc. 01-2616 Filed 1-30-01; 8:45 am]

BILLING CODE 7555-01-M